DEPARTMENT OF HEALTH AND HUMAN SERVICES

Centers for Disease Control and Prevention

Program Evaluation Monitoring System; Training and Technical Assistance

Announcement Type: Competitive Supplement.

Funding Opportunity Number: PA 04019 Supplement.

Catalog of Federal Domestic Assistance Number: 93.939.

Key Dates:

Application Deadline: August 2, 2004.

I. Funding Opportunity Description

Authority: This program is authorized under Sections 301(a) and 317(k)(2) of the Public Health Service Act, 42 U.S.C. 241 and 42 U.S.C. 247b(k)(2).

Purpose: The Centers for Disease Control and Prevention (CDC) announces the availability of funds for one cooperative agreement for Focus Area 2 under Program Announcement 04019, Capacity Building Assistance (CBA) to strengthen interventions for HIV prevention by the provision of technical assistance and training that improves the capacity of community-based organizations (CBOs) and health departments (HDs) to use a program evaluation monitoring system designed for HIV prevention interventions targeting high-risk racial/ethnic minority individuals of unknown serostatus, including pregnant women, and people of color who are living with HIV/AIDS and their partners. These funds are specifically intended to develop and implement a national integrated program evaluation monitoring system (PEMS) technical assistance and training for CBOs in the evaluation of their HIV prevention interventions targeting high risk seronegatives and HIV-positive racial/ethnic minority individuals.

This program addresses the “Healthy People 2010” focus area of HIV infection, CDC's Government Performance and Results Act Performance Plan, the goals of CDC's HIV Prevention Strategic Plan through 2005 at http://www.cdc.gov/hiv/partners/psp.htm and Advancing HIV Prevention: New Strategies for a Changing Epidemic at http://www.cdc.gov/mmwr/PDF/wk/mm5215.pdf.

Measurable outcomes of the program will be in alignment with one (or more) of the following performance goal(s) for the National Center for HIV, STD and TB Prevention:

1. Strengthen the capacity to develop and implement effective HIV prevention interventions.

2. Increase the proportion of HIV infected individuals who know they are infected.

3. Increase the proportion of HIV infected people who are linked to appropriate prevention, care, and treatment services.

4. Decrease the number of persons at high risk for acquiring or transmitting HIV infection.

Priority funding considerations require the applicant to submit an application that includes a plan to enhance the ability of CBOs funded under program announcement 04064 to implement and maintain their PEMS, by delivering training and technical assistance. No other application preference factors will be applied to the review and selection process. The plan must address each of the following performance goals:

• Strengthen the capacity of community based organizations and health departments to develop and implement effective HIV prevention interventions by training them to use a monitoring system that provides feedback data for program improvement and modification.

• Increase the proportion of HIV infected individuals who know they are infected by training community based organizations and health departments to collect client-level data through a monitoring system that allows tracking and referral elements to be gathered.

• Increase the proportion of HIV infected people who are linked to appropriate prevention, care, and treatment services by training community based organizations and health departments to effectively use the tracking and referral capabilities of a national monitoring system.

• Decrease the number of persons at high risk for acquiring or transmitting HIV infection by training community based organizations and health departments to assess data collected by a monitoring system for prevention program improvement.

Applications must ensure quality programming and measurement of progress based on core performance indicators specific to Focus Area 2 through:

1. Measuring the proportion of CDC-funded CBOs receiving program evaluation monitoring system training.

2. Measuring the proportion of CDC-funded health departments receiving program evaluation monitoring system training.

3. Measuring the proportion of CBOs that report agreement with the timeliness in completion of program evaluation monitoring system technical assistance and training.

4. Measuring the proportion of health departments that report agreement with the timeliness in completion of program evaluation monitoring system technical assistance and training.

5. Measuring the proportion of CBO and health department technical assistance and training action plans completed according to scheduled delivery in a timely manner.

6. Measuring the proportion of CBOs that report agreement that program evaluation monitoring system technical assistance or training met their needs.

7. Measuring the proportion of health departments that report agreement that program evaluation monitoring system technical assistance or training met their needs.

8. Measuring the proportion of CDC-funded CBOs, by racial/ethnic minority population served, receiving program evaluation monitoring system needs assessments.

Applicants process objectives and activities considered responsive to Focus Area 2 that must be addressed in the program plan are:

a. Provision of ongoing program evaluation monitoring system technical assistance and training for CBOs in the evaluation of effective HIV prevention interventions for high risk seronegatives and HIV-positive racial/ethnic minority individuals using the PEMS software.

b. Provision of program evaluation monitoring system technical assistance and training that measures the diffusion of effective behavioral interventions, including training, cultural adaptation of curricula, and promotion of “boxed” interventions from CDC.

c. Provision of program evaluation monitoring system technical assistance and training that measures the expected outcomes of regional consultant pool capacity building assistance activities.

d. Provision of program evaluation monitoring system technical assistance and training for CBOs and health departments to help them deliver effective and efficient prevention interventions.

These activities must be conducted in collaboration with the CDC, Division of HIV/AIDS Prevention. These activities may benefit from collaboration with Deloitte and ORC/MACRO, and other contractors working to ensure that CBOs have the skills and access to technical assistance necessary to implement and maintain PEMS.

Activities: Specific activities that must be conducted by applicants are as follows:

A. Use of logic modeling for program planning and conducting program evaluation monitoring system technical assistance and training.

B. Inclusion of input from CBOs and health departments about the proposed program evaluation monitoring system technical assistance and training, including people living with HIV/AIDS.

C. Incorporation of cultural competency and linguistic and educational appropriateness into all program evaluation monitoring system technical assistance and training.

D. Collaboration with CDC, CDC-funded CBA and Technical Assistance (TA) providers, and contractors to plan and deliver program evaluation monitoring system technical assistance and training that is (1) consistent with CDC expectations (as provided in other trainings for grantees); and (2) to avoid duplication of services (as provided by other contractors).

E. Undertake a systems approach in the delivery of a nationally structured program evaluation monitoring system technical assistance and training.

F. Implement a plan for developing and maintaining ongoing relationships with CBOs and health departments.

G. Develop protocols that respond to reactive requests for program evaluation monitoring system technical assistance and training following procedures provided by CDC.

H. Refer all other capacity building assistance requests, which fall outside of program evaluation monitoring system technical assistance and training to the CDC capacity building assistance coordinator for appropriate assignment.

I. Participate in a CDC-coordinated capacity building assistance network to enhance communication, coordination, cooperation, and training.

J. Identify the internal training needs of program evaluation monitoring system technical assistance and training program and staff.

K. Implement a quality assurance strategy that ensures the delivery of high quality program evaluation monitoring system technical assistance and training services.

L. Develop a strategy for marketing program evaluation monitoring system technical assistance and training services.

M. Report planned program evaluation monitoring system technical assistance and training events to the Capacity Building Branch (CBB) Training Calendar for dissemination to CBOs and health departments to be provided by CDC.

N. Facilitate the dissemination of information about program evaluation monitoring system through peer-to-peer interactions, meetings, workshops, conferences, and communications with CDC project officers.

In a cooperative agreement, CDC staff is substantially involved in the program activities, above and beyond routine grant monitoring.

CDC Activities for this program are as follows:

A. Providing consultation and technical assistance in designing, planning, developing, operating, and evaluating activities (such as progress reporting, submitting information for the training calendar) based on CDC's standards and expectations. CDC may provide consultation and technical assistance both directly from CDC and indirectly through prevention partners, such as health departments, national and regional minority partners, CBA partners, trainers, contractors, and other national organizations.

B. Monitoring the performance of program and fiscal activities through progress reports, data reporting, site visits, conference calls, and compliance with federally mandated requirements, such as protection of client privacy.

C. Assisting in the development of collaborative efforts with state and local health departments, HIV prevention community planning groups, CBOs that receive direct funding from CDC, and other federally supported organizations providing HIV/AIDS services.

D. Conducting an overall evaluation of the program.

II. Award Information

Type of Award: Competitive Supplement to existing Cooperative Agreement. CDC involvement in this program is listed in the Activities Section above.

Fiscal Year Funds: 2004.

Approximate Total Funding: $1,000,000.

Approximate Number of Awards: 1.

Approximate Award: $1,000,000 (This amount is for the first budget period, and pending availability of funds, each of the subsequent four periods until project end.).

Floor of Award Range: None.

Ceiling of Award Range: $1,000,000.

Anticipated Award Date: July 15, 2004.

Budget Period Length: Budget periods will coincide with budget periods for PA04019 funding. The current budget period ends March 31, 2005. All subsequent budget periods will be 12 months in length.

Project Period Length: Four years, eight months.

Throughout the project period, CDC's commitment to continuation of awards will be conditioned on the availability of funds, evidence of satisfactory progress by the recipient (as documented in required reports), and the determination that continued funding is in the best interest of the Federal Government.

III. Eligibility Information

III.1. Eligible Applicants

Eligibility is restricted to funded organizations under Program Announcement 04019 who currently have received awards serving African American, Latino/Hispanic, Asian and Pacific Islander, or American Indian/Alaska Native HIV prevention providers and stakeholders in Focus Area 2, Strengthening HIV Prevention Interventions.

III.2. Cost Sharing or Matching

Matching funds are not required for this program.

III.3. Other

If you request a funding amount greater than the total funding amount, your application will not be eligible for review. You will be notified that you did not meet the submission requirements.

Note: Title 2 of the United States Code Section 1611 states that an organization described in Section 501(c)(4) of the Internal Revenue Code that engages in lobbying activities is not eligible to receive Federal funds constituting an award, grant, or loan.

IV. Application and Submission Information

IV.1. Address To Request Application Package

To apply for this funding opportunity use application form PHS 5161. Forms are available on the CDC Web site, at the following Internet address: www.cdc.gov/od/pgo/forminfo.htm.

If you do not have access to the Internet, or if you have difficulty accessing the forms online, you may contact the CDC Procurement and Grants Office Technical Information Management Section (PGO-TIM) staff at: 770-488-2700. Application forms can be mailed to you.

IV.2. Content and Form of Submission

Application: You must include a project narrative with your application forms. Your narrative must be submitted in the following format:

• Maximum number of pages: 12 pages (excluding budget, appendices and attachments). If your narrative exceeds the page limit, only the first 12 pages which are within the page limit will be reviewed.

• Font size: 12 point unreduced.

• Single spaced.

• Paper size: 8.5 by 11 inches.

• Page margin size: One-inch.

• Printed only on one side of page.

• Held together only by rubber bands or metal clips; not bound in any other way.

Your narrative should address activities to be conducted over the entire project period, and must include the following items in the order listed:

A. Abstract

Provide a one-page abstract summarizing your proposed activities for the next 8 months (August through March). Include a description of your overall strategy or approach to accomplish the goals and activities of this supplemental announcement.

B. Proposed Plan

1. Describe your specific plan for accomplishing the goals and activities of this supplemental announcement. Include objectives for all the activities listed under the “Purpose” section. List specific, time-phased, realistic and measurable objectives.

2. Describe program activities designed to meet proposed objectives, indicate the approximate dates by which activities will be accomplished, and identify program staff responsible for conducting activities. You must provide activities for all of your proposed objectives.

3. List and describe the evaluation experts or doctoral students and CDC and other agency staff whom you intend to partner with to conduct the activities identified in this supplemental announcement.

4. Describe relationships proposed for these (listed in #3.) and any additional collaboration with CBAs or consultants proposed.

C. Plan of Evaluation

Outline your plan for evaluation (including timeline) and summarize how this strategy will be quality assured and evaluated. Identify process and outcome objectives and describe the methods that will be used to determine whether these objectives have been met.

You are required to have a Dun and Bradstreet Data Universal Numbering System (DUNS) number to apply for a grant or cooperative agreement from the Federal government. The DUNS number is a nine-digit identification number, which uniquely identifies business entities. Obtaining a DUNS number is easy and there is no charge. To obtain a DUNS number, access www.dunandbradstreet.com or call 1-866-705-5711.

For more information, see the CDC Web site at: http://www.cdc.gov/od/pgo/funding/pubcommt.htm. If your application form does not have a DUNS number field, please write your DUNS number at the top of the first page of your application, and/or include your DUNS number in your application cover letter.

Additional information may be included in the application appendices. The appendices will not be counted toward the narrative page limit. This additional information includes:

Include the following: (1) Memoranda of intent, agreement, or letters of support from collaborators, and (2) letters of support from community-based HIV prevention projects or other CBA providers as appropriate.

IV.3. Submission Dates and Times

Application Deadline Date: August 2, 2004.

Explanation of Deadlines: Applications must be received in the CDC Procurement and Grants Office by 4 p.m. Eastern Time on the deadline date. If you send your application by the United States Postal Service or commercial delivery service, you must ensure that the carrier will be able to guarantee delivery of the application by the closing date and time. If CDC receives your application after closing due to: (1) Carrier error, when the carrier accepted the package with a guarantee for delivery by the closing date and time, or (2) significant weather delays or natural disasters, you will be given the opportunity to submit documentation of the carrier's guarantee. If the documentation verifies a carrier problem, CDC will consider the application as having been received by the deadline.

This program announcement is the definitive guide on application format, content, and deadlines. It supersedes information provided in the application instructions. If your application does not meet the deadline above, it will not be eligible for review, and will be discarded. You will be notified that you did not meet the submission requirements.

If you have a question about the receipt of your application, first contact your courier. If you still have a question, contact the PGO-TIM staff at: 770-488-2700. Before calling, please wait two to three days after the application deadline. This will allow time for applications to be processed and logged.

IV.4. Intergovernmental Review of Applications

Your application is subject to Intergovernmental Review of Federal Programs, as governed by Executive Order (EO) 12372. This order sets up a system for state and local governmental review of proposed federal assistance applications. You should contact your state single point of contact (SPOC) as early as possible to alert the SPOC to prospective applications, and to receive instructions on your state's process. Click on the following link to get the current SPOC list: http://www.whitehouse.gov/omb/grants/spoc.html.

IV.5. Funding Restrictions

Funding restrictions, which must be taken into account while writing your budget are as follows:

• Submit an original and two copies of the Standard Form 424A and a detailed budget that includes line item details, itemization of unit cost breakdowns, and justifications. Please utilize the enclosed Budget guidelines for direction. Break all budget line items down to the level of detail proscribed in the guidelines.

• If you are requesting indirect costs in your budget, you must include a copy of your indirect cost rate agreement. If your indirect cost rate is a provisional rate, the agreement must be less than 12 months of age.

Guidance for completing your budget can be found on the CDC Web site, at the following Internet address: http://www.cdc.gov/od/pgo/funding/budgetguide.htm.

IV.6. Other Submission Requirements

Application Submission Address: Submit the original and two hard copies of your application by mail or express delivery service to: Technical Information Management-PA# 04019 Supplement, CDC Procurement and Grants Office, 2920 Brandywine Road, Atlanta, GA 30341. Applications may not be submitted electronically at this time.

V. Application Review Information

V.1. Criteria

You are required to provide measures of effectiveness that will demonstrate the accomplishment of the various identified objectives of the cooperative agreement. Measures of effectiveness must relate to the performance goals stated in the “Purpose” section of this announcement. Measures must be objective and quantitative, and must measure the intended outcome. These measures of effectiveness must be submitted with the application and will be an element of evaluation.

Your application will be evaluated against the following criteria:

(1) The extent to which the applicant's overall strategy and specific plan is likely to accomplish the goals and activities of this supplemental announcement. (30 points).

(2) The extent to which the proposed objectives are specific, measurable, realistic, time-phased and consistent with the goals and activities of this supplemental announcement (25 points).

(3) The extent to which the applicant's proposed plan expands or enhances the existing Focus Area 2 activities funded under program announcement 04019 (15 points).

(4) The extent to which the applicant describes and documents support and intended collaboration from evaluation experts and other evaluation contractors as appropriate (15 points).

(5) The extent to which the evaluation plan will measure the achievement of program objectives and monitor the implementation of proposed activities (15 points).

(6) Budget (not scored). The extent to which the budget is reasonable, itemized, clearly justified, and consistent with the intended use of funds.

V.2. Review and Selection Process

An objective review panel will evaluate your application according to the criteria listed above. A technical review of each application, listing strengths, weaknesses, and recommendations, will be conducted by a content expert from the Program Evaluation and Research Branch, Division of HIV/AIDS Prevention. This technical review will be provided to objective panel reviewers as an optional technical source of information to be considered during the scoring phase of the objective review process. The highest ranked application from the objective review process will be recommended to the Capacity Building Branch, Division of HIV/AIDS Prevention for supplemental award.

VI. Award Administration Information

VI.1. Award Notices

If your application is to be funded, you will receive a Notice of Grant Award (NGA) from the CDC Procurement and Grants Office. The NGA shall be the only binding, authorizing document between the recipient and CDC. The NGA will be signed by an authorized Grants Management Officer, and mailed to the recipient fiscal officer identified in the application.

Unsuccessful applicants will receive notification of the results of the application review by mail.

VI.2. Administrative and National Policy Requirements

45 CFR Part 74 or Part 92

For more information on the Code of Federal Regulations, see the National Archives and Records Administration at the following Internet address: http://www.access.gpo.gov/nara/cfr/cfr-table-search.html.

The following additional requirements apply to this project:

• AR-4 HIV/AIDS Confidentiality Provisions

• AR-5 HIV Program Review Panel Requirements

• AR-7 Executive Order 12372

• AR-8 Public Health System Reporting Requirements

• AR-9 Paperwork Reduction Act Requirements

• AR-10 Smoke-Free Workplace Requirements

• AR-11 Healthy People 2010

• AR-12 Lobbying Restrictions

• AR-14 Accounting System Requirements

• AR-15 Proof of Non-Profit Status

• AR-16 Security Clearance Requirement

Additional information on these requirements can be found on the CDC Web site at the following Internet address: http://www.cdc.gov/od/pgo/funding/ARs.htm.

VI.3. Reporting Requirements

The reporting requirements will be on a trimester schedule (every 4 months). Awardee will be required to submit an original, plus two copies of three reports during the budget year as follows:

1. Initial progress report (within or on 30 days after the completion of the first 4 months of the budget period).

2. Interim progress report (within or on 30 days after the completion of the 8 month of the budget period), this report will also serve as the continuation application for determining satisfactory progress for the current year and funding for the next budget year, and must contain the following elements: (a) Current Budget Period Activities Objectives; (b) Current Budget Period Financial Progress; (c) New Budget Period Program Proposed Activity Objectives; (d) Detailed Line-Item Budget and Justification; and (e) Additional Requested Information.

3. Final progress report (within or on 30 days after the completion of the 12 month of the budget period).

4. Financial status report, no more than 90 days after the end of the budget period.

5. Final financial and performance reports, no more than 90 days after the end of the project period.

VII. Agency Contacts

For general questions about this announcement, contact: Technical Information Management Section, CDC Procurement and Grants Office, 2920 Brandywine Road, Atlanta, GA 30341, Telephone: 770-488-2700.

For program technical assistance, contact: Keith Yamaguchi, Project Officer, Capacity Building Branch, Division of HIV/AIDS Prevention, CDC National Center for HIV, STD and TB Prevention, 1600 Clifton Road, MS E-40, Atlanta, GA 30333, Telephone: (404) 639-3858, e-mail: kxy1@cdc.gov.

For budget assistance, contact: Betty Vannoy, Grants Management Specialist, CDC Procurement and Grants Office, 2920 Brandywine Road, Atlanta, GA 30341, Telephone: (770) 488-2897, e-mail: bbv9@cdc.gov.

Dated: June 28, 2004.
Alan A. Kotch,
Acting Director, Procurement and Grants Office, Centers for Disease Control and Prevention.

[FR Doc. 04-15062 Filed 7-1-04; 8:45 am]

BILLING CODE 4163-18-P